DEPARTMENT OF THE TREASURY

Internal Revenue Service

Open Meeting of the Taxpayer Advocacy Panel

AGENCY: Internal Revenue Service (IRS) Treasury.

ACTION: Notice.

SUMMARY: An open meeting of the Taxpayer Advocacy Panel will be held. The Taxpayer Advocacy Panel is soliciting public comment, ideas, and suggestions on improving customer service at the Internal Revenue Service.

DATES: The meeting will be held Tuesday, January 10, 2006, from 1 p.m. to 5 p.m. and Wednesday, January 11, 2006, from 8 a.m. to 11 a.m., Eastern Time.

FOR FURTHER INFORMATION CONTACT: LaVerne Walker at 1-866-602-2223.

SUPPLEMENTARY INFORMATION: Notice is hereby given pursuant to Section 10(a)(2) of the Federal Advisory Committee Act, 5 U.S.C. App. (1988) that an open meeting of the of the Taxpayer Advocacy Panel will be held Tuesday, January 10, 2006, from 1 p.m. to 5 p.m. and Wednesday, January 11, 2006, from 8 a.m. to 11 a.m., Eastern Time. If you would like to have the Taxpayer Advocacy Panel consider a written statement, please call 1-866-602-2223, or write to LaVerne Walker at 1111 Constitution Avenue, NW., Room 7704, Washington, DC 20224. Or you can contact us at http://www.improveirs.org. Ms. Walker can be reached at 1-866-602-2223 or by FAX at 202-622-6143.

The agenda will include the following: discussion of various IRS issues.

Dated: December 9, 2005.
John Fay,
Acting Director, Taxpayer Advocacy Panel.

[FR Doc. E5-7401 Filed 12-15-05; 8:45 am]

BILLING CODE 4830-01-P